DEPARTMENT OF AGRICULTURE

Rural Business-Cooperative Service

Notice of Request for Approval of a New Information Collection With Use of a Survey

AGENCY: Rural Business-Cooperative Service, USDA.

ACTION: Proposed collection; comments request.

SUMMARY: In accordance with the Paperwork Reduction Act of 1995, this notice announces the Rural Business-Cooperative Service's (RBS) intention to request approval of a new information collection in order to render service to associations of producers of agricultural, forestry, fisheries products and federations and subsidiaries thereof as authorized in the Cooperative Marketing Act of 1926.

DATES: Comments on this notice must be received by August 9, 2002, to be assured of consideration.

FOR FURTHER INFORMATION CONTACT: Bruce J. Reynolds, Agricultural Economist, RBS, U.S. Department of Agriculture, 1400 Independence Avenue SW., Stop 3253, Washington, DC 20250-3253, Telephone (202) 720-3694.

SUPPLEMENTARY INFORMATION: Title: Survey of Cooperatives on Selecting Candidates for Director Elections.

Type of Request: New Information Collection.

Abstract: The mission of the Rural Business-Cooperative Service (RBS) is to assist farmer-owned cooperatives in improving the economic well being of their farmer-members. This is accomplished through a comprehensive program of research on structural, operational, and policy issues affecting cooperatives; technical advisory assistance to individual cooperatives and to groups of producers who wish to organize cooperatives; and development of educational and informational material. The authority to carry out RBS's mission is defined in the Cooperative Marketing Act of 1926 (44 Stat. 802-1926).

Authority and Duties of Division (7 U.S.C. 453).

(a) The division shall render service to associations of producers of agricultural products, and federations and subsidiaries thereof, engaged in the cooperative marketing of agricultural products including processing, warehousing, manufacturing, storage, the cooperative purchasing of farm supplies, credit, financing, insurance, and other cooperative activities.

(b) The division is authorized to:

(1) acquire, analyze and disseminate economic, statistical, and historical information regarding the progress, organization, and business methods of cooperative associations in the United States and foreign countries.

(2) conduct studies of the economic, legal, financial, social and other phases of cooperation, and publish the results thereof. Such studies shall include the analyses of the organization, operation, financial and merchandising problems of cooperative organizations.

(3) make surveys and analyses if deemed advisable of the accounts and business practices of representative cooperative associations upon their request; to report to the association so surveyed the results thereof; and with the consent of the association so surveyed to publish summaries of the results of such surveys, together with similar facts, for the guidance of cooperative associations and for the purpose of assisting cooperative associations in developing methods of business and market analysis.

(4) acquire from all available sources, information concerning crop prospects, supply, demand, current receipts, exports, imports, and prices of agricultural products handled or marketed by cooperative associations, and to employ qualified commodity marketing specialists to summarize and analyze this information and disseminate the same among cooperative associations and others.

Cooperatives are a distinct form of business by having ownership and control by a membership of those who are users of the services provided by such businesses. Their democratic governance involves elections of and by members to the boards of directors. Cooperatives operate in highly competitive industries and require not only the highest caliber of management, but also effective leadership and guidance from those members who are elected to serve on boards. This survey is designed to pool the knowledge of different methods used by cooperatives in selecting candidates for election to their boards. Survey results will be summarized for purposes of comparison and information sharing. Alternative methods of selecting candidates will be analyzed in a context of appropriate and effective methods for different types of cooperatives in terms of membership size and complexity of business operations. No previous surveys of this topic have been conducted for U.S. agricultural cooperatives.

Estimate of Burden: Public reporting burden for this collection of information is estimated to average 13.75 minutes (0.23 hours) per response.

Respondents: Cooperatives with at least $5M in assets and at least 200 members.

Estimated Number of Respondents: 490.

Estimated Number of Responses per Respondent: one.

Estimated Total Annual Burden on Respondents: 113 hours.

Copies of this information collection can be obtained from Jean Mosley, Regulations and Paperwork Management Branch, at (202) 692-0041.

Comments

Comments are invited on: (a) Whether the proposed collection of information is necessary for the proper performance of the function of the Agency, including whether the information will have practical utility; (b) the accuracy of the Agency's estimate of the burden of the proposed collection of information including the validity of the methodology and assumptions used;

(c) ways to enhance the quality, utility, and clarity of the information to be collected; and

(d) ways to minimize the burden of the collection of information on those who are to respond, including through use of appropriate automated, electronic, mechanical, or other technological collection techniques or other forms of information technology.

Comments may be sent to Jean Mosley, Regulations and Paperwork Management Branch, U.S. Department of Agriculture, Rural Development, 1400 Independence Avenue SW., Stop 0742, Washington, DC 20250. All responses to this notice will be summarized and included in the request for OMB approval. All comments will also become a matter of a public record.

Dated: June 4, 2002.
John Rosso,
Administrator, Rural Business-Cooperative Service.

[FR Doc. 02-14538 Filed 6-7-02; 8:45 am]

BILLING CODE 3410-XY-P